FEDERAL COMMUNICATIONS COMMISSION

Information Collections Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before May 25, 2012. If you anticipate that you will be submitting comments, but find it difficult to do so within the period of time allowed by this notice, you should advise the contact listed below as soon as possible.

ADDRESSES: Direct all PRA comments to the Federal Communications Commission via email to PRA@fcc.gov and Cathy.Williams@fcc.gov.

FOR FURTHER INFORMATION CONTACT: For additional information about the information collection, contact Cathy Williams at (202) 418-2918.

SUPPLEMENTARY INFORMATION: OMB Control Number: 3060-xxxx.

Title: Creation of a Low Power Radio Service and Amendment of Service and Eligibility Rules for FM Broadcast Translator Stations, Fourth Report and Order and Third Order on Reconsideration (“Fourth Report and Order”), MM Docket 99-25, MB Docket No. 07-172, RM-11338; Implementation of Application Caps.

Form Number: N/A.

Type of Review: New collection.

Respondents: Not-for-profit institutions; State, local or tribal government.

Number of Respondents and Responses: 300 respondents; 300 responses.

Estimated Time per Response: 2 hours.

Frequency of Response: One-time reporting requirement.

Total Annual Burden: 600 hours.

Total Annual Costs: None.

Obligation to Respond: Required to obtain or retain benefits. The statutory authority for this collection is contained in Sections 154(i) of the Communications Act of 1934, as amended.

Nature and Extent of Confidentiality: There is no need for confidentiality with this collection of information.

Privacy Impact Assessment(s): No impact(s).

Needs and Uses: On March 19, 2012, the Commission adopted a Fourth Report and Order and Third Order on Reconsideration (“Fourth Report and Order”), FCC 12-29. In the Fourth Report and Order, the Commission adopts the national and market-specific caps proposed in the Third Further Notice, FCC 11-105, and requires parties with more than 50 pending applications and/or more than one pending application in the markets identified in Appendix A of the Fourth Report and Order (the top 150 Arbitron markets plus markets with more than 4 pending translator applications) to request the dismissal of applications to comply with these limits. Applicants may request such dismissal by filing a letter with the Commission (“Dismissal Letter”) identifying the applications they wish to be dismissed. In the event that an applicant does not timely comply with these dismissal procedures, the Commission staff will first apply the national cap, retaining on file the first 50 filed applications and dismissing those that were subsequently filed. The staff will then dismiss all but the first filed application in each of the markets identified in Appendix A.

OMB Control Number: 3060-xxxx.

Title: Creation of a Low Power Radio Service and Amendment of Service and Eligibility Rules for FM Broadcast Translator Stations, Fourth Report and Order and Third Order on Reconsideration (“Fourth Report and Order”), MM Docket 99-25, MB Docket No. 07-172, RM-11338; Translator Amendments and Top 50 Market Preclusion Showings.

Form Number: N/A.

Type of Review: New collection.

Respondents: Not-for-profit institutions; State, local or tribal government.

Number of Respondents and Responses: 500 respondents; 1,300 responses.

Estimated Time per Response: 2 hours.

Frequency of Response: One time reporting requirement.

Total Annual Burden: 2,600 hours.

Total Annual Costs: None.

Obligation to Respond: Required to obtain or retain benefits. The statutory authority for this collection is contained in Sections 154(i) of the Communications Act of 1934, as amended.

Nature and Extent of Confidentiality: There is no need for confidentiality with this collection of information.

Privacy Impact Assessment(s): No impact(s).

Needs and Uses: On March 19, 2012, the Commission adopted a Fourth Report and Order and Third Order on Reconsideration (“Fourth Report and Order”), FCC 12-29. It adopts the market-based dismissal policy proposed in the Third Further Notice, FCC 11-105, with certain modifications. Among other things, it gives all translator applicants a limited opportunity to amend their proposals. It holds that translator applicants in “spectrum available” markets may modify their proposals so long as they do not preclude any LPFM channel/point combination identified in the Bureau's study (“Spectrum Available Amendments”). It further holds that translator applicants with proposals in “spectrum limited” markets will be allowed to modify their proposals to eliminate their preclusive impact on any of the LPFM point/channel combinations that would be available within the grid if all translator window applications in that market were dismissed (“Spectrum Limited Amendments”) (“Spectrum Available Amendments” and “Spectrum Limited Amendments” are collectively referred to herein as, “Amendments”). In addition, any translator applicant in any top 50 spectrum limited market must demonstrate that its out-of-grid proposal would not preclude the only LPFM station licensing opportunity at that location (“Top 50 Market Preclusion Showing”). Specifically, it needs to demonstrate either that no LPFM station could be licensed at the proposed transmitter site or, if an LPFM station could be licensed at the site, that an additional channel remains available for a future LPFM station at the same site.

Federal Communications Commission.
Marlene H. Dortch,
Secretary, Office of the Secretary, Office of Managing Director.

[FR Doc. 2012-7166 Filed 3-23-12; 8:45 am]

BILLING CODE 6712-01-P